DEPARTMENT OF EDUCATION

[Docket No.: ED-2022-SCC-0074]

Agency Information Collection Activities; Comment Request; DC School Choice Incentive Program

AGENCY: Office of Elementary and Secondary Education (OESE), Department of Education (ED).

ACTION: Notice.

SUMMARY: In accordance with the Paperwork Reduction Act of 1995, ED is proposing a new information collection.

DATES: Interested persons are invited to submit comments on or before August 9, 2022.

ADDRESSES: To access and review all the documents related to the information collection listed in this notice, please use https://www.regulations.gov by searching the Docket ID number ED-2022-SCC-0074. Comments submitted in response to this notice should be submitted electronically through the Federal eRulemaking Portal at https://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208D, Washington, DC 20202-8240.

FOR FURTHER INFORMATION CONTACT: For specific questions related to collection activities, please contact Beth Yeh, 202-205-5798.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: DC School Choice Incentive Program.

OMB Control Number: 1810-NEW.

Type of Review: A new information collection.

Respondents/Affected Public: Individuals and Households.

Total Estimated Number of Annual Responses: 3,000.

Total Estimated Number of Annual Burden Hours: 1,000.

Abstract: The DC Opportunity Scholarship Program, authorized by the Consolidated Appropriations Act of 2004, and reauthorized in 2017 by the Scholarships for Opportunity and Results (SOAR) Reauthorization Act, awarded a grant to Serving Our Children in order to administer scholarships to students who reside in the District of Columbia and come from households whose incomes do not exceed 185% of the poverty line. To assist in the student selection and assignment process, the information collected is used to determine the eligibility of those students who are interested in the available scholarships. Also, since the authorizing statute requires an evaluation, we are proposing to collect certain family demographic information because they are important predictors of school success. Finally, we are asking to collect information about parental participation and satisfaction because these are key topics that the statute requires the evaluation to address. This request makes two small changes to the questions previously approved by OMB. One is to add a question about how the families heard of Opportunity Scholarship Program (OSP). The other is to add a check box in section 9 (relating to students with disabilities) pursuant to the competitive grant application instructions.

Previously this information collection was approved under OMB #1855-0015. This program and the associated collection were moved to the Office of Elementary and Secondary Education within the Department. As such, it requires a new OMB number that corresponds with the OMB numbers for collections from the Office of Elementary and Secondary Education. For that reason, we are requesting a new information collection and will discontinue 1855-0015 when this request is approved.

Dated: June 7, 2022.
Kun Mullan,
PRA Coordinator, Strategic Collections and Clearance, Governance and Strategy Division, Office of Chief Data Officer, Office of Planning, Evaluation and Policy Development.

[FR Doc. 2022-12562 Filed 6-9-22; 8:45 am]

BILLING CODE 4000-01-P